DEPARTMENT OF JUSTICE

Notice of Lodging of Consent Decree Under the Comprehensive Environmental Response Compensation and Liability Act

In accordance with Department of Justice policy, notice is hereby given that on May 22, 2007, a proposed consent decree (“Consent Decree”) in United States v. Capital Tax Corporation, et al., Civil Action No. 04-cv-04138, was lodged with the United States District Court for the Northern District of Illinois.

The Consent Decree would resolve claims against two of the four defendants—Steve Pedi and Frank Pedi (“Pedi Defendants”)—for (i) unreimbursed past response cost incurred by the United States related to the removal action at the National Lacquer and Paint Superfund Site (“Site”) in Chicago, Illinois; (ii) penalties and punitive damages for failure to comply with Environmental Protection Agency orders related to the Site; and (iii) fraudulent transfers of real property. Under the Consent Decree, the Pedi Defendants would pay a total of $330,000 in past response costs by December 31, 2007. This amount was determined based on Steve Pedi's ability to pay a judgment as calculated by a Department of Justice financial analyst.

The Department of Justice will receive for a period of thirty (30) days from the date of this publication comments relating to the Consent Decree. Comments should be addressed to the Assistant Attorney General, Environment and Natural Resources Division, and either e-mailed to pubcomment-ees.enrd@usdoj.gov or mailed to P.O. Box No. 7611 Washington, DC 20044-7611, and should refer to United States v. Capital Tax Corporation, et al., Civil Action No. 04-cv-04138, D.J. Ref. 90-11-2-08218.

The Consent Decree may be examined at the Office of the United States Attorney, 219 S. Dearborn Street, Suite 500, Chicago, Illinois 60604, and at U.S. EPA Region 5, 77 W. Jackson Blvd., Chicago, IL 60604-4590. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $7.75 (31 pages at 25 cents per page reproduction cost) payable to the U.S. Treasury.

William D. Brighton,
Environmental Enforcement Section, Environmental and Natural Resources Division.

[FR Doc. 07-2819 Filed 6-6-07; 8:45 am]

BILLING CODE 4410-15-M